DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 25743-25746, dated May 2, 2013) is amended to reorganize the Office of the Associate Director for Communication, Office of the Director, Centers for Disease Control and Prevention.

Section C-B, Organization and Functions, is hereby amended as follows:

Delete in its entirety the titles and functional statements for the Office of the Associate Director for Communication (CAU) and insert the following:

The mission of the Office of the Associate Director for Communication (OADC) is to further customer-centered, science-based and effective communication to support the Centers for Disease Control and Prevention's (CDC) public health work. In carrying out its mission, the OADC: (1) Serves as a communication advisor and strategist to CDC's Director and senior leadership; (2) conducts and promotes health communication science practices to address agency priorities; (3) provides communication services including broadcast, CDC-INFO, graphics, translation, interpretation and photography; (4) promotes open and clear employee communication; and (5) develops, guides, and implements internal and external public affairs strategies and activities.

Office of the Director (CAU1). (1) Manages, directs, and evaluates activities of the OADC; (2) makes sure CDC communication activities comply with Department of Health and Human Services (HHS) established policies; (3) communicates the value and benefits of CDC programs; (4) leads strategic communication activities addressing agency-wide priorities; (5) provides strategic communication support for CDC's emergency responses and the Joint Information Center; (6) provides reputation management expertise and counsel; (7) provides leadership and guidance to communicate decisions made by CDC's leadership in an efficient and clear manner; (8) coordinates with Centers/Institute/Offices (CIOs) on communication activities; (9) provides leadership and guidance to manage and operate OADC's programs including the areas of fiscal management, personnel, travel, and other administrative services; (10) develops and tracks OADC's annual budget and spending plan to fulfill CDC's communication priorities; (11) serves as OADC's primary point of contact with CDC's Procurement and Grants Office and Office of the Chief Financial Officer on contracts and budget matters; and (12) ensures all communication products authored by CDC staff members or published by CDC are released for public use in a timely manner, are of the highest quality and are scientifically sound, understandable, and useful to the intended audience.

Office of Communication Science (CAU13). (1) Serves as the principal advisor on the scientific basis for communication and marketing practice; (2) guides CIOs on applying measures of effectiveness for public health communication efforts; (3) guides, advises and trains on plain language to make CDC health information accessible and understandable to audiences that may have specific health literacy needs; (4) provides implementation for the Plain Writing Act; (5) distributes health communication and marketing research to interested professionals at CDC, its partners, and other stakeholders; and (6) manages clearances of CDC's communication materials for the public with HHS and the Office of Management and Budget.

Division of Public Affairs (CAUB). (1) Provides implementation and evaluation of public affairs, news and digital media, and employee communication throughout CDC; (2) plans and designs digital media to distribute public health information to the public, including Web sites, usability testing, and mobile applications; (3) provides leadership and management of CDC's Web site (www.cdc.gov); (4) provides content, policy review, and clearance of news media materials with HHS, including press releases, press kits, talking points, letters to editors, and fact sheets; (5) manages and responds to news media requests for access to CDC, its subject matter experts, reports, and publications; (6) provides leadership and guidance for external public relations strategies; (7) develops communication strategies to communicate with the agency's workforce; and (8) provides agency-wide leadership, technical assistance, and consultation in risk communication and reputational management.

Office of the Director (CAUB1). (1) Develops the strategic priorities and manages the program activities of the division; (2) leads the agency's news and electronic media activities; (3) provides guidance and recommendations on effective use of news and digital media to CDC's director, leadership, and CIOs; (4) collaborates and coordinates with other federal organizations and external stakeholders on news and digital media; and (5) serves as liaison on news and digital media policies, procedures, and clearances to HHS' Office of Assistant Secretary for Public Affairs.

Digital Media Branch (CAUBB). (1) Leads the selection, design, development, and evaluation of digital media technologies; (2) leads and manages CDC's digital communications systems and architectures for Web, Intranet, mobile sites and applications, and social media (i.e., Web Content Management System, mobile services, CDC.gov servers, search engine, content syndication); (3) provides operations support and management for CDC's Web site, Intranet Web sites, and CDC's main social media channels, including CDC.gov top tier, CDC en Espanol, mobile apps, and CDC Connects; (4) coordinates the CDC.gov and social media governing bodies (Web Council, Social Media Council, and related Communities of Practice and workgroups); (5) works with other federal organizations to develop tools and systems, coordinate digital media strategies, conduct research on digital user experiences, and reviews communication technology; (6) supports online collaborations with internal and external partners; and (7) collects and analyzes CDC Web user data/metrics to assess health impact, usability, and accessibility.

News Media Branch (CAUBC). (1) Provides leadership in the development and use of news media strategies and practices; (2) obtains HHS clearance of news media materials for media outlets and the public (press releases, press kits, talking points, letters to editors, and fact sheets); (3) promotes health information to the public through news media channels; (4) manages and responds to news media requests for access to CDC subject matter experts, reports, and publications; (5) works with CDC's CIOs to identify news media opportunities and responds to issues that arise; (6) provides news media/spokesperson training and technical assistance to CDC staff; and (7) develops and supports long lead media opportunities and responds to requests.

External and Employee Relations Branch (CAUBD). (1) Creates recognized employee communication system to increase clear communication between CDC leadership and employees, and across employee groups, including CDC Connects and other employee information channels; (2) manages CDC's scientific museum and learning center, the David J. Sencer CDC Museum; (3) implements strategies to communicate with CDC customers, partners and stakeholders, including Director's All Hands and Speakers' Bureau; (4) creates and implements employee communication special activities; (5) serves as the central point of contact for CDC Office of the Director announcements; and (6) serves as liaison to provide agency communication to former employees and retirees.

Division of Communication Services (CAUD). The Division of Communication Services (DCS) provides agency-wide CDC graphics, broadcast, photography, translation, interpretation and sign language, public information, and communication consultation/analysis leadership and support. To carry out its mission, the division performs the following functions: (1) Ensures broadcast functionality/broadcast engineering support including connectivity among physical assets such as the Global Communications Center, Emergency Operations Center, and continuity of operations for CDC; (2) develops and disseminates video and audio production; (3) manages CDC graphic design and production services including CDC branding and identity standards; (4) supports new broadcast communication mechanisms (e.g. HHS TV, CDC TV, radio/TV broadcast, podcast, webcast, and videos-on-demand) for CDC programs; (5) provides support for broadcast delivery press conferences and media interviews; (6) provides scientific and events photography; (7) provides multilingual translation and interpretation, sign language support, and cross cultural communication assistance to CIOs across CDC; (8) provides consultation and analysis of consumer research data to CIOs used for developing and evaluating health communication and marketing to specific audiences; (9) manages day-to-day operations of meeting space within CDC's meeting center, the Global Communications Center; and (10) manages CDC-INFO (CDC's telephone, email, and publications fulfillment services center).

Office of the Director (CAUD1). (1) Develops the strategic priorities and manages the program activities of the division; (2) provides leadership for ensuring all DCS products are of the highest quality; (3) helps CIOs use existing or develop new mechanisms for communicating with the public and CDC partners; (4) coordinates support for meetings held in the Global Communications Center with internal and external customers; (5) coordinates the use of the CDC exhibit for public health conferences; (6) manages overall IT-related functions for the division, including Create-IT (DCS' online internal tracking and triage system), Trados SDL (translation memory application), and CDC-INFO IT applications; (7) provides and manages multi-year, multi-vendor CDC-wide communication contracts mechanism for use by CIO clients; and (8) updates and manages Create-IT system for tracking and triage of work requests including associated customer satisfaction and other performance metrics for internal and external (CIO) use.

CDC-INFO (CAUD12). (1) Provides the public with accessible, accurate, and credible health information in English and Spanish, 24/7, to include phone, email and U.S. mail; (2) ensures the CDC-INFO call center standards are kept for quality assurance, customer satisfaction, performance, and health impact when dealing with the public; (3) provides surge (to include 24/7) support through the 1-800 call center for public health emergencies and establishes policies and procedures with the CDC Emergency Operations Center, Joint Information Center; (4) manages CDC's ordering and distribution facility for health publications; and (5) analyzes and reports CDC-INFO data to inform communication planning and programs throughout the agency.

Broadcast Services Branch (CAUDB). (1) Develops and produces audio, video, and multi-media health information products; (2) provides CDC with global communication capacity for high-definition broadcast, webcast and emerging social and health media delivery channels; (3) supports the CDC Emergency Operations Center to provide response capacity and capability for emergency broadcasts; (4) develops and delivers health information broadcast programs in coordination with HHS for the public, including podcasts, CDC-TV and other channels; (5) creates and produces communication using new forms of social and electronic media; (6) collaborates with other areas of CDC to review and recommend potential audio and video technology; and (7) develops distance education, health communication, and training products to reach public health partners and professionals.

Graphics Services Branch (CAUDC). (1) Leads and coordinates CDC visual information activities; (2) develops and produces graphic illustrations, including scientific posters, infographics, desktop published documents, visual presentations, conference materials, brochures and fact sheets, newsletters, and exhibits; (3) manages scientific and event photography; and (4) provides creative direction and brand management guidance for graphics products and sets guidelines and standards for quality and consistency across the agency.

Strategic and Proactive Communications Branch (CAUDD). (1) Provides technical assistance on large or multidisciplinary projects to provide a consistent approach across communication products; (2) administers CDC wide multi-year, multi-vendor communication contracts mechanism; (3) advises on methods for gaining public input on health issues and priorities (e.g., advisory mechanisms, focus groups, polling, legislative, and media tracking); (4) manages contract resources and provides analysis relative to audience segmentation and behavior; (5) consults with CDC programs on ways to utilize predictive analytics and other tools to facilitate targeted program application and/or measurement of program effectiveness; (6) provides consultation for strategic communication implementation and applying health communication and social marketing techniques both internally and externally; (7) provides agency-wide multi-lingual service (MLS) support to include direct Spanish language translation, facilitating and coordinating support for other languages, and cross-cultural communication assistance as well as MLS leadership (e.g. implementation of agency Language Access Plan); and (8) assists in planning and management of video challenges.

Dated: April 17, 2013.
Sherri A. Berger,
Chief Operating Officer, Centers for Disease Control and Prevention.

[FR Doc. 2013-11143 Filed 5-9-13; 8:45 am]

BILLING CODE 4160-18-M